COMMISSION ON CIVIL RIGHTS

South Dakota Advisory Committee

AGENCY: United States Commission on Civil Rights.

ACTION: Notice of period during which individuals may apply to be appointed to the South Dakota Advisory Committee; request for applications.

SUMMARY: Because the terms of the members of the South Dakota Advisory Committee are expiring on April 18, 2015, the United States Commission on Civil Rights hereby invites any individual who is eligible to be appointed to apply. The memberships are exclusively for the South Dakota Advisory Committee, and applicants must be residents of South Dakota to be considered. Letters of interest must be received by the Rocky Mountain Regional Office of the U.S. Commission on Civil Rights no later than December 15, 2014. Letters of interest must be sent to the address listed below.

DATES: Letters of interest for membership on the Colorado Advisory Committee should be received no later than December 15, 2014.

ADDRESSES: Send letters of interest for the South Dakota Advisory Committee to: U.S. Commission on Civil Rights, Rocky Mountain Regional Office, 999 18th Street NW., Suite 1380 South, Denver, CO 80294. Letter can also be sent via email to Evelyn Bohor at ebohor@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The South Dakota Advisory Committees (SAC) are statutorily mandated federal advisory committees of the U.S. Commission on Civil Rights pursuant to 42 U.S.C. 1975a. Under the charter for the SAC, the purpose is to provide advice and recommendations to the U.S. Commission on Civil Rights (Commission) on a broad range of civil rights matters in its state that pertain to alleged deprivations of voting rights or discrimination or denials of equal protection of the laws because of race, color, religion, sex, age, disability, or national origin, or the administration of justice. The SAC also provides assistance to the Commission in its statutory obligation to serve as a national clearinghouse for civil rights information.

The SAC consists of not more than 19 members, each of whom will serve a two-year term. Members serve as unpaid Special Government Employees who are reimbursed for travel and expenses. To be eligible to be on the SAC, applicants must be residents of South Dakota and have demonstrated expertise or interest in civil rights issues.

The Commission is an independent, bipartisan agency established by Congress in 1957 to focus on matters of race, color, religion, sex, age, disability, or national origin. Its mandate is to:

• Investigate complaints from citizens that their voting rights are being deprived,

• study and collect information about discrimination or denials of equal protection under the law,

• appraise federal civil rights laws and policies,

• serve as a national clearinghouse on discrimination laws,

• submit reports and findings and recommendations to the President and the Congress, and

• issue public service announcements to discourage discrimination.

The Commission invites any individual who is eligible to be appointed a member of the South Dakota Advisory Committee covered by this notice to send a letter of interest and a resume to the address above.

Dated: November 10, 2014.
David Mussatt,
Chief, Regional Programs Unit.

[FR Doc. 2014-27007 Filed 11-13-14; 8:45 am]

BILLING CODE P